DEPARTMENT OF TRANSPORTATION

National Highway Traffic Safety Administration

[Docket No. NHTSA-2004-18478]

Notice of Receipt of Petition for Decision that Nonconforming 1999 Ferrari 456GT and GTA Passenger Cars Are Eligible for Importation

AGENCY: National Highway Traffic Safety Administration, DOT.

ACTION: Notice of receipt of petition for decision that nonconforming 1999 Ferrari 456GT and GTA passenger cars are eligible for importation.

SUMMARY: This document announces receipt by the National Highway Traffic Safety Administration (NHTSA) of a petition for a decision that 1999 Ferrari 456GT and GTA passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is August 9, 2004.

ADDRESSES: Comments should refer to the docket number and notice number, and be submitted to: Docket Management, Room PL-401, 400 Seventh St., SW., Washington, DC 20590. (Docket hours are from 9 a.m. to 5 p.m.) Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC of Baltimore, Maryland (Registered Importer RI-90-006) has petitioned NHTSA to decide whether 1999 Ferrari 456GT and GTA passenger cars are eligible for importation into the United States. The vehicles that J.K. Technologies believes are substantially similar are 1999 Ferrari 456GT and GTA passenger cars that were manufactured for importation into, and sale in, the United States and certified by their manufacturer as conforming to all applicable Federal motor vehicle safety standards.

The petitioner claims that it compared non-U.S. certified 1999 Ferrari 456GT and GTA passenger cars to their U.S.-certified counterparts, and found the vehicles to be substantially similar with respect to compliance with most Federal motor vehicle safety standards.

J.K. Technologies submitted information with its petition intended to demonstrate that non-U.S. certified 1999 Ferrari 456GT and GTA passenger cars, as originally manufactured, conform to many Federal motor vehicle safety standards in the same manner as their U.S. certified counterparts, or are capable of being readily altered to conform to those standards.

Specifically, the petitioner claims that non-U.S. certified 1999 Ferrari 456GT and GTA passenger cars are identical to their U.S. certified counterparts with respect to compliance with Standard Nos. 102 Transmission Shift Lever Sequence, Starter interlock, and transmission braking effect, 103 Windshield Defrosting and Defogging Systems, 104 Windshield Wiping and Washing Systems, 105 Hydraulic and Electric Brake Systems, 106 Brake Hoses, 109 New Pneumatic Tires, 113 Hood Latch Systems, 116 Motor Vehicle Brake Fluids, 124 Accelerator Control Systems, 201 Occupant Protection in Interior Impact, 202 Head Restraints, 203 Impact Protection for the Driver from the Steering Control System, 204 Steering Control Rearward Displacement, 205 Glazing Materials, 206 Door Locks and Door Retention Components, 207 Seating Systems, 210 Seat Belt Assembly Anchorages, 212 Windshield Mounting, 219 Windshield Zone Intrusion, and 302 Flammability of Interior Materials.

The petitioner also contends that the vehicles are capable of being readily altered to meet the following standards, in the manner indicated:

Standard No. 101 Controls and Displays: (a) Inscription of the word “brake” on the instrument cluster in place of the international ECE warning symbol or installation of a U.S.-model instrument cluster; (b) inscription of the seat belt warning symbol on the instrument cluster or installation of a U.S.-model instrument cluster; (c) modification of the speedometer to read in miles per hour or replacement of the speedometer through the installation of a U.S.-model instrument cluster. U.S. version software must be downloaded to ensure compliant operation of the replaced or modified controls and displays.

Standard No. 108 Lamps, Reflective Devices and Associated Equipment: Installation of the following components (a) U.S.-model headlamps; (b) U.S.-model front sidemarker lamps that incorporate reflex reflectors; (c) modification of taillamps to ensure compliance with the standard or installation of U.S.-model taillamp assemblies that incorporate rear sidemarker lamps and reflex reflectors. Petitioner also states that the vehicle is equipped with a high-mounted stop lamp.

Standard No. 110 Tire Selection and Rims: Installation of a tire information placard.

Standard No. 111 Rearview Mirrors: Inscription of the required warning statement on the passenger side rearview mirror, or installation of U.S.-model passenger side rearview mirror.

Standard No. 114 Theft Protection: Reprogramming of the vehicle's computers to the U.S.-mode to ensure compliance with the standard.

Standard No. 118 Power-Operated Window, Partition, and Roof Panel Systems: Petitioner states that all vehicles must be inspected to ensure compliance with this standard and that a relay will be added to the power window control circuit as necessary to ensure compliance with this standard.

Standard No. 208 Occupant Crash Protection: (a) Reprogramming of the vehicle's computers to the U.S.-mode to activate the seatbelt warning buzzer and lamp; (b) installation of compliant passenger's seat belt and driver's seat belt latch. Petitioner states that all vehicles must be inspected to ensure compliance with this standard and that U.S.-model components will be installed, as necessary, to ensure compliance with the standard. The petitioner also states that the vehicles are equipped with dual front air bags, and with combination lap and shoulder belts at the outboard front seating positions that are self-tensioning and capable of being released by means of a single red push button.

Standard No. 209 Seat Belt Assemblies: Inspection of all vehicles and installation of U.S.-model components on vehicles that are not already so equipped to ensure compliance with this standard and standard No. 208 Occupant Crash Protection.

Standard No. 214 Side impact protection: Inspection of all vehicles and installation of U.S.-model components on vehicles that are not already so equipped to ensure compliance with the standard.

The petitioner states that a supplemental visible label must be affixed to the vehicles near the left windshield post to meet the requirements of 49 CFR part 565, and a reference and certification label must be affixed to the edge of the driver's side door to ensure compliance with the requirements of 49 CFR part 567.

Petitioner also states that all vehicles must be inspected to ensure compliance with the Bumper Standard found at 49 CFR part 581 and that U.S.-model component will be installed, as necessary on vehicles that are not already so equipped. The petitioner expressed the belief that the vehicles do in fact comply with this standard.

Interested persons are invited to submit comments on the petition described above. Comments should refer to the docket number and be submitted to: Docket Management, Room PL-401, 400 Seventh St., SW., Washington, DC 20590. (Docket hours are from 9 a.m. to 5 p.m.) It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Claude H. Harris,
Director, Office of Vehicle Safety Compliance.

[FR Doc. 04-15651 Filed 7-8-04; 8:45 am]

BILLING CODE 4910-59-P